DEPARTMENT OF ENERGY

Federal Energy Regulatory Commission

[Docket No. RM01-8-000]

Revised Public Utility Filing Requirements; Notice

October 21, 2002.

1. In Order Issuing Instruction Manual for Public Utilities to Use to File Their Electric Quarterly Reports, issued on May 29, 2002, the Commission defined the specific filing instructions for complying with Order 2001, Revised Public Utility Filing Requirements, (67 FR 31043, FERC Stats. & Regs. ¶ 31,127, April 25, 2002). This notice is to provide guidance to aid public utilities preparing their Electric Quarterly Report filings and to clarify previous instructions.

2. This guidance is divided into four parts: general information, filer information, contract information, and transaction information. In this document, “Filer, Contract, and Transaction Templates” refer to the three sheets of the Excel format (or the three sections of the CSV format) detailing the proper file structure of the Electric Quarterly Report. These are posted on FERC's web site at http://www.ferc.gov/electric/electric.htm. Filers are encouraged to read this guidance to ensure that they fill out their Electric Quarterly Reports correctly.

General Information

3. Every utility with a tariff on file with the Commission pursuant to Part 35 of the Commission's regulations must file the Electric Quarterly Report, even if there are no contracts under any of a utility's tariffs or rate schedules, or no sales were made during the quarter. Respondents without sales should leave the transaction template blank.

4. Utilities must inform the Commission promptly of any change in status that would reflect a departure from the characteristics the Commission has relied upon in approving market-based pricing. A newly authorized power marketer may elect to report such changes in conjunction with its updated market analysis or in a separate report filed under the docket number in which it received market-based rate authority. Such designations were previously filed with the first Power Marketer Quarterly Report.

For the October 31, 2002 Filing:

5. When filling out the description information in the E-filing web page, list every regulated utility by name that is included in the filing as a seller. (In other words, if a parent company is filing for several subsidiaries, each of which has tariffs on file, each subsidiary should be listed separately in the description.) This will aid searches in FERRIS for the desired filing.

6. If the EQR filing is over 10 Mb, break it up as described in the Commission's July 1, 2002 order.¹ If multiple files are necessary, in addition to using the file naming convention described in the July order, please identify which file is being attached (i.e., Volume 1, Volume 2, etc.) in the description field on the e-filing page. There is no need to repeat the Filer or Contract Template data on each file.

¹ Order Denying Requests for Rehearing, Requests for Stay and Request for Extension, and Providing Clarification, 100 FERC ¶ 61, 074 (2002).

7. If the filing is 10 Mb. or less, please submit all of the data in one file rather than making multiple smaller filings.

Filer Information

8. In most cases, the agent, respondent, and seller will be the same. Each should be identified. Contact information is required for at least the respondent.

a. The agent is the party that physically makes the filing.

b. The respondent is the company taking responsibility for making the filing. In many cases, the filing is on behalf of a single seller, and the respondent and seller are the same. Other possibilities include a parent company making the filing for subsidiary companies listed as sellers, a service company making a filing on behalf of affiliated sellers, or an RTO/ISO making a filing on behalf of its member utilities.

c. Sellers are public utilities that have tariffs and/or rate schedules on file at FERC.

Contract Information

9. Seller company name must be spelled exactly as listed on the Filer Template.

10. Customer DUNS number is a required field, as stated in the final rule. Filings that are missing DUNS numbers are incomplete.

11. FERC tariff reference should list the tariff and/or rate schedule approved by the Commission. For independent power marketers, this is likely “Rate Schedule No. 1,” the rate schedule authorizing sales at market based rates. Examples of other appropriate entries are listed on the example templates on the FERC's web site at http://www.ferc.gov/electric/EQR-Excel-Example.xls.

12. Contract Service Agreement ID is a unique (company) name given to each service agreement. It may be the number assigned by FERC for those service agreements that have been filed and approved by the Commission, or it can be an internal numbering system. The filer must be able to readily identify and produce a contract based on the Contract Service Agreement ID.

13. The first twelve fields on the Contract Template apply to the entire contract/service agreement. The last twenty fields in the template apply to each contract product. If a contract includes multiple products, each has to be listed separately.

14. Dates: There are six date fields in the contract template. The first four are related to the contract itself, and the last two address the contract products. These are:

a. Contract Execution Date is the date the contract was signed. If the parties signed on different dates, or there are different contract amendments, use the latest date signed as the contract execution date.

b. Contract Commencement Date is the first date the contract was effective—frequently the first date of service under a contract.

c. Contract Termination Date is the date specified (if any) in the contract that the contract will expire of its own terms.

d. Actual Termination Date is the date the contract actually terminates. This could be the contract termination date, or any other date the parties agree to. This field will only be filled out after the contract has been terminated.

e. Begin and End Dates apply to contract products, rather than the whole contract, and are to be used when there are multiple time frames addressed in the contract. If all products listed in the contract begin and end on the same dates as the contract does, there is no need to list dates in these Begin and End Date fields. Therefore, in most cases, these fields will be left blank. An example of when and how these fields should be used is this: in a five-year power sales contract with a different quantity and price specified for each year, the product (power) would be listed on five lines. Each listing would have a unique begin and end date and the price assigned for each year would be listed on the appropriate line. Another example is a transmission contract with several ancillary services. The transmission service and each of the ancillary services could have different begin and end dates.

15. At least one of the four rate fields (rate, rate minimum, rate maximum, rate description) must be filled out. For example, most market-based rates should state “Market-Based Rate” in the Rate Description Field. If the service does not have a rate, NA should be entered in the rate description field.

16. Other mandatory fields include: Customer name, Contract Affiliate, FERC Tariff Reference, Contract Service Agreement ID, Contract Execution Date and/or Contract Commencement Date.

Transaction Information

17. Transaction data should be filed for all power sales pursuant to Part 35 tariffs on file with the Commission. This includes cost-based and market-based rate sales.

18. Seller company name must be exactly as listed on the Filer and Contract templates.

19. Customer information must be exactly as listed on the Contract template.

20. FERC Tariff Reference and Contract Service Agreement ID must be exactly as listed in the Contract Template.

21. The system will allow negative numbers in the price and charge fields.

22. Whether and how certain types of transactions should be reported are set forth below:

23. “Tolling” and barter transactions: Tolling transactions are energy conversion services (i.e., converting gas/oil/coal into MW). Some contracts provide for barter payments (a portion of the fuel or output). These are reportable as a sale of electricity under a utility's MBR tariff. Barter transactions should be converted to a monetary basis in the same manner used by the utility in its SEC and IRS filings, and reported on the Electric Quarterly Report.

24. Bundled service:

a. If power is sold at a “delivered price” at a specified point (and transmission and ancillary services are not separately delineated), only the delivered price should be reported on the Electric Quarterly Report as the price of power.

b. If the power is purchased at one location and, as part of the sale, it is transmitted to another location, the transmission and any other related charges should be reported separately for market-based prices. For grandfathered cost-based rates bundled with transmission, a product name will be added (“grandfathered bundled”) that identifies the transaction as a grandfathered rate. Grandfathered services are those that provided for bundled transmission, ancillary and energy prior to the effectiveness of Order No. 888's OATTs. For Grandfathered transactions, report the Commission-approved bundled rate without separating the rate into transmission and energy components.

c. The Electric Quarterly Report has a column for the transmission component of energy sales. However, many different services in addition to transmission are associated with energy sales (ancillary services most common).The Commission needs to understand the derivation of the total commodity price. To the extent that there are services delineated in the contract that are part of the total sale, they should be listed on separate lines and priced separately (other than the exception detailed above for Grandfathered rates).

25. Rate design: Many services do not have one-part commodity rates/prices for energy sales. Utilities should use different lines for listing the different components of the rate/price (such as reservation fee, commodity price, etc.) in the Contract and Transaction Templates.

26. Capacity, RMR, and stand-by service should be reported with the commodity sales if they are in the market-based rate contract. The transactions, including these charges, should be sufficiently detailed to explain the derivation of the price.

27. “Border Agreement” energy sales, exchanges as part of a Rate Schedule, emergency sales or other sales/exchanges under an Interconnection Agreement, line loss adjustments, and ISO day-ahead trades are reportable, just as any other trade or sale is.

28. In general, QF energy transactions are not reportable, as they have “exempt” status. However, some utilities with a QF exemption have a Part 35 tariff on file with the Commission, in which case transactions under that tariff are reportable.

29. Marketing fees (the fee a marketer charges the utility with a tariff for marketing the energy) should not be included in the Electric Quarterly Report if they are included in the price of the energy. However, if the marketing fee is assessed separately to the buyer in addition to the price of the energy, the fee should be broken out and shown on a separate line.

30. Options that go to delivery should be reported at the strike price. Revenue from the sale of the option should not be reported.

Revisions to Electric Quarterly Reports

31. A utility must file a revised Electric Quarterly Report if more complete information is obtained or errors are found in a utility's Electric Quarterly Report. Some structured markets do not give prices/revenues to sellers until after 30 or more days, so the pricing data will not be available by the report date. Utilities should enter the transaction quantities and nothing for the unknown prices, and file revised reports when the information becomes available.

Linwood A. Watson, Jr.,
Deputy Secretary.

[FR Doc. 02-27458 Filed 10-28-02; 8:45 am]

BILLING CODE 6717-01-P